DEPARTMENT OF COMMERCE

Foreign-Trade Zones Board

[B-20-2015]

Foreign-Trade Zone (FTZ) 50—Long Beach, California; Notification of Proposed Production Activity; Mercedes Benz USA, LLC; (Accessorizing Motor Vehicles); Long Beach, California

The Port of Long Beach, grantee of FTZ 50, submitted a notification of proposed production activity to the FTZ Board on behalf of Mercedes Benz USA, LLC (MBUSA), located in Long Beach, California. The notification conforming to the requirements of the regulations of the FTZ Board (15 CFR 400.22) was received on March 24, 2015.

The MBUSA facility is located within Site 41 of FTZ 50. The facility is used for accessorizing passenger motor vehicles. Pursuant to 15 CFR 400.14(b), FTZ activity would be limited to the specific foreign-status materials and components and specific finished products described in the submitted notification (as described below) and subsequently authorized by the FTZ Board.

Production under FTZ procedures could exempt MBUSA from customs duty payments on the foreign status components used in export production. On its domestic sales, MBUSA would be able to choose the duty rate during customs entry procedures that applies to passenger motor vehicles (duty rate−2.5%) for the foreign status components noted below. Customs duties also could possibly be deferred or reduced on foreign status production equipment.

The components sourced from abroad include: Plastic door sills and strips; wheel rim locks; metal door sills and strips; memory cards; navigation systems and related parts; entertainment systems; wiring sets and harnesses; storage compartments; spoilers; and, cup holders (duty rate ranges from free to 5%).

Public comment is invited from interested parties. Submissions shall be addressed to the FTZ Board's Executive Secretary at the address below. The closing period for their receipt is May 26, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov or (202) 482-1378.

Dated: April 7, 2015.
Andrew McGilvray,
Executive Secretary.

[FR Doc. 2015-08590 Filed 4-13-15; 8:45 am]

BILLING CODE 3510-DS-P